DEPARTMENT OF THE INTERIOR

Fish and Wildlife Service

[FWS-R3-ES-2018-N049; FXES11130300000-189-FF03E00000]

Endangered and Threatened Wildlife and Plants; Permit Applications

AGENCY: Fish and Wildlife Service, Interior.

ACTION: Notice of availability; request for comments.

SUMMARY: We, the U.S. Fish and Wildlife Service, invite the public to comment on applications for permits to conduct activities intended to enhance the propagation or survival of endangered or threatened species. Federal law prohibits certain activities with endangered species unless a permit is obtained.

DATES: We must receive any written comments on or before July 2, 2018.

ADDRESSES: Send written comments by U.S. mail to the Regional Director, Attn: Carlita Payne, U.S. Fish and Wildlife Service, Ecological Services, 5600 American Blvd. West, Suite 990, Bloomington, MN 55437-1458; or by electronic mail to permitsR3ES@fws.gov.

Requesting Copies of Applications or Public Comments: Copies of applications or public comments concerning any of the applications in this notice may be obtained by any party who submits a written request for a copy of such documents to the above-mentioned office within 30 days of the date of publication of this notice (see DATES), subject to the requirements of the Privacy Act (5 U.S.C. 552a) and the Freedom of Information Act (5 U.S.C. 552).

Submitting Comments: You may submit comments by one of the following methods. Please specify applicant name(s) and application number(s) to which your comments pertain (e.g., TEXXXXXX).

• Email: permitsR3ES@fws.gov. Please refer to the respective permit number (e.g., Application No. TEXXXXXX) in the subject line of your email message.

• U.S. Mail: Regional Director, Attn: Carlita Payne (address above).

FOR FURTHER INFORMATION CONTACT: Carlita Payne, 612-713-5343; permitsR3ES@fws.gov.

SUPPLEMENTARY INFORMATION: We, the U.S. Fish and Wildlife Service, invite the public to comment on the following applications for a permit to conduct activities intended to enhance the propagation or survival of endangered or threatened species. Federal law prohibits certain activities with endangered species unless a permit is obtained.

Background

The Endangered Species Act of 1973, as amended (ESA; 16 U.S.C. 1531 et seq.), prohibits certain activities with endangered and threatened species unless the activities are specifically authorized by a Federal permit. The ESA and our implementing regulations in part 17 of title 50 of the Code of Federal Regulations (CFR) provide for the issuance of such permits and require that we invite public comment before issuing permits for activities involving endangered species.

A permit granted by us under section 10(a)(1)(A) of the ESA authorizes the permittee to conduct activities with U.S. endangered or threatened species for scientific purposes, enhancement of propagation or survival, or interstate commerce (the latter only in the event that it facilitates scientific purposes or enhancement of propagation or survival). Our regulations implementing section 10(a)(1)(A) of the ESA for these permits are found at 50 CFR 17.22 for endangered wildlife species, 50 CFR 17.32 for threatened wildlife species, 50 CFR 17.62 for endangered plant species, and 50 CFR 17.72 for threatened plant species.

Permit Applications Available for Review and Comment

We invite local, State, Tribal, and Federal agencies and the public to comment on the following applications. Please refer to the permit number when you submit comments. Documents and other information the applicants have submitted with the applications are available for review, subject to the requirements of the Privacy Act (5 U.S.C. 552a) and Freedom of Information Act (5 U.S.C. 552).

Permit Applications

Proposed activities in the following permit requests are for the recovery and enhancement of propagation or survival of the species in the wild.

Application No. | Applicant | Species | Location | Activity | Type of take | Permit action
TE75774C | Wesley Conway, Seymour, IN | Indiana bat (Myotis sodalis), gray bat (M. grisescens), northern long-eared bat (M. septentrionalis) | AL, AR, CT, DE, D.C., FL, GA, IL, IN, IA, KS, KY, LA, ME, MD, MA, MI, MN, MO, MS, MT, NE, NH, NJ, NY, NC, ND, OH, OK, PA, SC, SD, TN, VT, VA, WV, WI, WY | Conduct presence/absence surveys, document habitat use, conduct population monitoring, evaluate impacts | Capture, handle, mist-net, radio-tag, band, release | New.
TE89557A | TRC Companies, Inc., Cleveland, OH | Add Dwarf wedgemussel (Alasmidonta heterodon) to existing permitted species: Clubshell (Pleurobema clava), fanshell (Cyprogenia stegaria), fat pocketbook (Potamilus capax), Higgins eye (pearlymussel) (Lampsilis higginsii), neosho mucket (L. rafinesquina), pink mucket (pearlymussel) (L. abrupta), speckled pocketbook (L. streckeri), northern riffleshell (Epioblasma torulosa rangiana), purple cat's paw pearlymussel (E. obliquata obliquata), white catspaw (pearlymussel) (E. o. perobliqua), snuffbox mussel (E. triquetra), orangefoot pimpleback (pearlymussel) (Plethobasus cooperianus), sheepnose mussel (P. cyphyus), rabbitsfoot (Quadrula cylindrica cylindrica), rayed bean (Villosa fabalis), scaleshell mussel (Leptodea leptodon), spectaclecase (mussel) (Cumberlandia monodonta) | Add new locations — NJ, NY—to existing authorized locations: AL, AR, IL, IN, IA, KY, MI, MN, MS, MO, OH, OK, TN | Conduct presence/absence surveys, document habitat use, conduct population monitoring, evaluate impacts | Capture, handle, temporary hold, release, relocate | Renew.
TE26856C | Sean Langley, Indianapolis, IN | Add Gray bat (Myotis grisescens) to existing permitted species: Indiana bat (M. sodalis), northern long-eared bat (M. septentrionalis) | AL, AR, CT, DE, FL, GA, IL, IN, IA, KS, KY, LA, MD, MA, MI, MS, MN, MO, MT, NE, NH, NJ, NY, NC, ND, OH, OK, PA, RI, SC, SD, TN, VT, VA, WV, WI, WY | Conduct presence/absence surveys, document habitat use, conduct population monitoring, evaluate impacts | Capture, handle, mist-net, radio-tag, band, release | Amend.
TE06845A | Lochmueller Group, Inc., Evansville, IN | Indiana bat (Myotis sodalis), gray bat (M. grisescens), northern long-eared bat (M. septentrionalis) | IL, IN, OH, GA, KY | Conduct presence/absence surveys, document habitat use, conduct population monitoring, evaluate impacts | Capture, handle, mist-net, radio-tag, band, release | Renew.
TE60958A | Bat Calls Identification, Inc., Kansas City, MO | Indiana bat (Myotis sodalis), gray bat (M. grisescens), northern long-eared bat (M. septentrionalis), Ozark big-eared bat (Corynorhinus towsendii ingens), Virginia big-eared bat (C.t. virginianus) | AL, AR, CT, DE, FL, GA, IL, IN, IA, KS, KY, LA, ME, MD, MA, MI, MS, MN, MO, MT, NE, NH, NJ, NY, NC, ND, OH, OK, PA, RI, SC, SD, TN, VT, VA, WV, WI, WY | Conduct presence/absence surveys, document habitat use, conduct population monitoring, evaluate impacts | Capture, handle, mist-net, radio-tag, band, release | Renew.

Public Availability of Comments

We seek public review and comments on these permit applications. Please refer to the permit number when you submit comments. Comments and materials we receive in response to this notice are available for public inspection, by appointment, during normal business hours at the address listed in ADDRESSES.

Before including your address, phone number, email address, or other personal identifying information in your comment, you should be aware that your entire comment—including your personal identifying information—may be made publicly available at any time. While you can ask us in your comment to withhold your personal identifying information from public review, we cannot guarantee that we will be able to do so.

Contents of Public Comments

Please make your comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations.

Next Steps

If the Service decides to issue permits to any of the applicants listed in this notice, we will publish a notice in the Federal Register.

Authority: Section 10 of the Endangered Species Act of 1973, as amended (16 U.S.C. 1531 et seq.).

Dated: May 7, 2018.
Lori H. Nordstrom,
Assistant Regional Director, Ecological Services, Midwest Region.

[FR Doc. 2018-11674 Filed 5-30-18; 8:45 am]

BILLING CODE 4333-15-P